DEPARTMENT OF THE TREASURY

Office of Thrift Supervision

[Docket No. 2001-29]

Notification of Change in Hours of Operation for Public Reference Room

AGENCY: Office of Thrift Supervision, Treasury.

ACTION: Notice.

SUMMARY: The Office of Thrift Supervision (OTS) is giving notice of the change in hours of operation for its public reference room. Subsequent to the effective date of this Notice, OTS's Public Reference Room will be accessible by appointment.

DATES: This Notice is effective on May 15, 2001.

FOR FURTHER INFORMATION CONTACT: Scott E. Schwartz, Senior Attorney, Office of Chief Counsel, General Law Division, (202) 906-6361, Office of Thrift Supervision, 1700 G Street, NW., Washington, DC 20552.

SUPPLEMENTARY INFORMATION: This notice serves to inform the public of the change in the hours of operation of OTS's Public Reference Room. Through a recent reorganization, OTS's Dissemination Branch, housing its Public Reference Room, has become part of the General Law Division in the Office of Chief Counsel. OTS's Public Reference Room is located on the lower level of the OTS Building at 1700 G Street, NW., Washington, DC 20552. To make an appointment for access to the Public Reference Room, you may call 202-906-5922, send an E-mail to publicinfo@ots.treas.gov, or send a facsimile transmission to 202-906-7755. (Prior notice identifying the Public Reference Room materials you will be requesting will assist us in serving you.) Appointments will be scheduled on business days between 10 a.m. and 4 p.m. In most cases, appointments will be available the next business day following the date a request is received. Upon entering the OTS Building at the scheduled appointment time, you will check in with the guard on duty who will notify the Public Reference Room staff of your arrival and give you directions to the Room. Amendments to OTS's regulations at 12 CFR part 505 to reflect the new procedures and hours of operation will be included in the next OTS technical amendments rulemaking.

Dated: April 20, 2001.
By the Office of Thrift Supervision.
Ellen Seidman,
Director.

[FR Doc. 01-10374 Filed 4-25-01; 8:45 am]

BILLING CODE 6720-01-P